Title 3—

The President

Proclamation 10073 of September 11, 2020

Minority Enterprise Development Week, 2020

By the President of the United States of America

A Proclamation

Each day, more than one million minority-owned employers in the United States contribute to the economic vitality of our Nation. These incredible enterprises uplift their surrounding communities and help fuel the futures, livelihoods, and dreams of Americans throughout the country. During Minority Enterprise Development Week, we celebrate the contributions of our great minority-owned businesses and reaffirm our commitment to supporting their continued growth, development, and success.

Since my first day in office, I have been committed to fostering an environment where all businesses, including minority-owned businesses, can thrive. The historic 2017 Tax Cuts and Jobs Act provided for the biggest tax cuts and reforms in American history, benefitting all Americans. This legislation also created Opportunity Zones, a landmark program that encourages investment in distressed communities and creates jobs for those who are most in need of opportunities for economic empowerment. My Administration has also cut burdensome regulations at an unprecedented rate, loosening Government restraints on growth and allowing minority-owned businesses to thrive. To reinforce our commitment to these critical enterprises, in April of this year, the Department of Commerce, through the Minority Business Development Agency (MBDA), announced the creation of the Minority Business Enterprise Inner City Innovation HUBs, which will award $2.8 million over 2 years to support minority-owned businesses. Through this initiative, we are helping to fund and sustain minority-owned startups, including those that support digital innovation, machine learning and artificial intelligence, and technology transfer.

My Administration has also been relentlessly committed to helping minority-owned businesses recover from the economic hardships brought on by the coronavirus pandemic. As part of the historic Coronavirus Aid, Relief, and Economic Security (CARES) Act, which I signed into law in March of this year, the Federal Government has allocated $10 million in supplemental funding to MBDA Business Centers and minority chambers of commerce to provide training and advising services for minority business enterprises, empowering them to be leaders in our economic recovery. In addition, the nearly 9,000 Opportunity Zones created by the Tax Cuts and Jobs Act have produced $75 billion in investment for countless minority neighborhoods throughout the United States. My Administration understands that supporting minority businesses promotes a strong national economy, and we will do everything in our power to assist minority-owned businesses as our Nation continues our economic resurgence.

This week and every week, we celebrate the vast contributions minority-owned businesses make to our great country. As President, I will always proudly stand by minority entrepreneurs and their businesses. My Administration will continue to promote their interests and decrease regulatory burdens to help them unleash their full potential.

NOW, THEREFORE, I, DONALD J. TRUMP, President of the United States of America, by virtue of the authority vested in me by the Constitution and the laws of the United States, do hereby proclaim September 13 through September 19, 2020, as Minority Enterprise Development Week. I call upon the people of the United States to observe this week with programs, ceremonies, and activities to recognize the many contributions of American minority business enterprises.

IN WITNESS WHEREOF, I have hereunto set my hand this eleventh day of September, in the year of our Lord two thousand twenty, and of the Independence of the United States of America the two hundred and forty-fifth.

[FR Doc. 2020-21114

Filed 9-22-20; 8:45 am]

Billing code 3295-F0-P